FEDERAL RESERVE SYSTEM

Notice of Proposals To Engage in Permissible Nonbanking Activities or To Acquire Companies That Are Engaged in Permissible Nonbanking Activities; Correction

This notice corrects a notice (FR Doc. 2011-31370) published on page 76413 of the issue for Wednesday, December 7, 2011.

Under the Federal Reserve Bank of Cleveland heading, the entry for Park National Corporation, Newark, Ohio, is revised to read as follows:

A. Federal Reserve Bank of Cleveland (Nadine Wallman, Vice President) 1455 East Sixth Street, Cleveland, Ohio 44101-2566:

1. Park National Corporation, Newark, Ohio; to engage through its subsidiary, SE Property Holdings, LLC, Newark, Ohio, in credit extending activities, pursuant to section 225.28(b)(1) of Regulation Y.

Comments on this application must be received by December 22, 2011.

Board of Governors of the Federal Reserve System, December 7, 2011.
Robert deV. Frierson,
Deputy Secretary of the Board.

[FR Doc. 2011-31755 Filed 12-9-11; 8:45 am]

BILLING CODE 6210-01-P